ENVIRONMENTAL PROTECTION AGENCY

[ER-FRL-6688-4]

Environmental Impacts Statements; Notice of Availability

Responsible Agency: Office of Federal Activities, General Information (202) 564-7167 or http://www.epa.gov/compliance/nepa/.

Weekly receipt of Environmental Impact Statements

Filed 06/18/2007 through 06/22/2007

Pursuant to 40 CFR 1506.9.

EIS No. 20070259, Final EIS, FHW, KY, Newtown Pike Extension Project, Road Connection from West Main Street to South Limestone Street in Lexington, Fayette County, KY, Wait Period Ends: 07/30/2007, Contact: David Whitworth 502-223-6741

EIS No. 20070260, Final EIS, COE, CA, PROGRAMMATIC—San Luis Obispo Creek Watershed, Waterway Management Plan, Stream Maintenance and Management Plan, City of San Luis Obispo and County of San Luis Obispo, Community of Avila Beach, San Luis Obispo County, CA, Wait Period Ends: 07/30/2007, Contact: Dr. Jack Malone 805-585-2146

EIS No. 20070261, Draft EIS, FHW, KY, I-65 to U.S. 31 W Access Improvement Project, To Meet the Existing and Future Transportation Demand, in northeast Bowling Green, Warren County, KY, Comment Period Ends: 10/05/2007, Contact: Anthony Goodman 502-223-6742.

EIS No. 20070262, Final EIS, NPS, CA, Giacomini Wetland Restoration Project, Propose to Restore Natural Hydrologic and Ecological Processes, Golden Gate National Recreation Area, Point Reyes National Seashore, Marin County, CA, Wait Period Ends: 07/30/2007, Contact: Loraine Parson 415-464-5100.

EIS No. 20070263, Final EIS, AFS, SD, Mitchell Project Area, To Implement Multiple Resource Management Actions, Mystic Ranger District, Black Hills National Forest, Pennington County, SD, Wait Period Ends: 07/30/2007, Contact:

Phill Grumstrup 605-716-1891.

EIS No. 20070264, Final EIS, BLM, SD, PROGRAMMATIC—Vegetation Treatments Using Herbicides on Bureau of Land Management Public Lands in 17 Westerns, including Alaska, Wait Period Ends: 07/30/2007, Contact: Brian Amme 775-861-6645.

Dated: June 26, 2007.
Ken Mittelholtz,
Environmental Protection Specialist, Office of Federal Activities.

[FR Doc. E7-12652 Filed 6-28-07; 8:45 am]

BILLING CODE 6560-50-P